DEPARTMENT OF HEALTH AND HUMAN SERVICES

Announcement of Availability of Funds for Adolescent Family Life (AFL) Demonstration Projects

AGENCY: Department of Health and Human Services, Office of the Secretary.

ACTION: Notice; modification.

SUMMARY: The Office of Adolescent Pregnancy Programs (OAPP) of the Office of Population Affairs (OPA) published a notice in the Federal Register of February 2, 2005, Doc. 70-5536, Part III, announcing the availability of funds for Adolescent Family Life (AFL) Demonstration Projects. Since that time, the Office of Public Health and Science (OPHS) has begun to participate with the government-wide grants initiative referred to as “Grants.gov Find and Apply.”

DATES: As of March 30, 2005, OPHS will begin to accept competitive electronic applications submitted through the Grants.gov website portal for this funding announcement. Competitive applications submitted through Grants.gov will be electronically transferred from the Grants.gov Web site portal to the OPHS eGrants system for processing.

To receive consideration applications must be received according to the submission requirements stated below.

SUPPLEMENTARY INFORMATION: Modification: Information regarding OPHS' acceptance of electronic grant application submissions via the OPHS eGrants system, as well as information regarding participation with Grants.gov is contained in the following modified OPHS Competitive Application Submission Policies.

Office of Public Health and Science

Competitive Application Submission Policies

Submission Mechanisms

The Office of Public Health and Science (OPHS) provides multiple mechanisms for the submission of applications, as described in the following sections. Applicants will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

Applications may only be submitted electronically via the electronic submission mechanisms specified below. Any applications submitted via any other means of electronic communication, including facsimile or electronic mail, will not be accepted for review. While applications are accepted in hard copy, the use of the electronic application submission capabilities provided by the OPHS eGrants system or the Grants.gov Website Portal is encouraged.

Electronic Submissions via the OPHS eGrants System

The OPHS electronic grants management system, eGrants, provides for applications to be submitted electronically. Information about this system is available on the OPHS eGrants Web site, https://egrants.osophs.dhhs.gov, or may be requested from the OPHS Office of Grants Management at 301-594-0758.

The body of the application and required forms can be submitted using the OPHS eGrants system. In addition to electronically submitted materials, applicants are required to submit a hard copy of the application face page (Standard Form 424) with the original signature of an individual authorized to act for the applicant agency or organization and to assume for the organization the obligations imposed by the terms and conditions of the grant award. If required, applicants will also need to submit a hard copy of the Standard Form LLL and/or certain Program related forms with the original signature of an individual authorized to act for the applicant agency or organization. The application will not be considered complete until both the electronic application components submitted via the OPHS eGrants system and any hard copy materials or original signatures are received.

Electronic grant application submissions must be submitted via the OPHS eGrants system no later than 5 p.m. Eastern Time on April 4, 2005. All required hardcopy original signatures and mail-in items must be received by the OPHS Office of Grants Management no later than 5 p.m. Eastern Time on April 5, 2005.

Applications will not be considered valid until all electronic application components, hardcopy original signatures, and mail-in items are received by the OPHS Office of Grants Management according to the deadlines specified above. Any application submitted electronically after 5 p.m. Eastern Time on April 4, 2005 will be considered late and will be deemed ineligible. Failure of the applicant to submit all required hardcopy original signatures and required mail-in items to the OPHS Office of Grants Management by 5 p.m. Eastern Time on April 5, 2005 will result in the electronic application being deemed ineligible.

Upon completion of a successful electronic application submission, the OPHS eGrants system will provide the applicant with a confirmation page indicating the date and time (Eastern Time) of the electronic application submission. This confirmation page will also provide a listing of all items that constitute the final application submission including all electronic application components, required hardcopy original signatures, and mail-in items, as well as the mailing address of the OPHS Office of Grants Management where all required hard copy materials must be submitted.

As items are received by the OPHS Office of Grants Management, the electronic application status will be updated to reflect the receipt of mail-in items. It is recommended that the applicant monitor the status of their application in the OPHS eGrants system to ensure that all signatures and mail-in items are received.

Applicants are encouraged to initiate electronic applications early in the application development process, and to submit early on the due date or before. This will aid in addressing any problems with submissions prior to the application deadline.

Electronic Submissions via the Grants.gov Website Portal

The Grants.gov Website Portal provides for applications to be submitted electronically. Information about this system is available on the Grants.gov Web site, http://www.grants.gov.

The body of the application and required forms can be submitted using the Grants.gov Website Portal. Grants.gov allows the applicant to download and complete the application forms at any time, however, it is required that organizations successfully complete the necessary registration processes in order to submit the application to Grants.gov.

In addition to electronically submitted materials, applicants may be required to submit hard copy signatures for certain Program related forms, or original materials as required by the announcement. It is imperative that the applicant review both the grant announcement, as well as the application guidance provided within the Grants.gov application package, to determine such requirements. Any required hard copy materials, or documents that require a signature, excluding the standard forms included in the Grants.gov application package (e.g., Standard Form 424 Face Page, Standard Assurances and Certifications (Standard Form 424B, and Standard Form LLL) must be submitted separately via mail to the OPHS Office of Grants Management, and, if required, must contain the original signature of an individual authorized to act for the applicant agency or organization and to assume for the organization the obligations imposed by the terms and conditions of the grant award.

Electronic grant application submissions must be submitted via the Grants.gov Website Portal no later than 5 p.m. Eastern Time on April 4, 2005. All required hardcopy original signatures and mail-in items must be received by the OPHS Office of Grants Management no later than 5 p.m. Eastern Time on April 5, 2005.

Applications will not be considered valid until all electronic application components, hardcopy original signatures, and mail-in items are received by the OPHS Office of Grants Management according to the deadlines specified above. Any application submitted electronically via the Grants.gov Website Portal after 5 p.m. Eastern Time on April 4, 2005 will be considered late and will be deemed ineligible. Failure of the applicant to submit all required hardcopy original signatures or materials to the OPHS Office of Grants Management by 5 p.m. Eastern Time on April 5, 2005 will result in the electronic application being deemed ineligible.

Upon completion of a successful electronic application submission via the Grants.gov Website Portal, the applicant will be provided with a confirmation page from Grants.gov indicating the date and time (Eastern Time) of the electronic application submission, as well as the Grants.gov Receipt Number. It is critical that the applicant print and retain this confirmation for their records, as well as a copy of the entire application package.

All applications submitted via the Grants.gov Web site Portal will be validated by Grants.gov. Any applications deemed “Invalid” by the Grants.gov Web site Portal will not be transferred to the OPHS eGrants system, and OPHS has no responsibility for any application that is not validated and transferred to OPHS from the Grants.gov Website Portal. Grants.gov will notify the applicant regarding the application validation status. Once the application is successfully validated by the Grants.gov Website Portal, applicants should immediately mail all required hard copy materials to the OPHS Office of Grants Management to be received by the deadlines specified above. It is critical that the applicant clearly identify the Organization name and Grants.gov Application Receipt Number on all hard copy materials.

Once the application is validated by Grants.gov, it will be electronically transferred to the OPHS eGrants system for processing. Upon receipt of both the electronic application from the Grants.gov Website Portal, and the required hardcopy mail-in items, applicants will receive notification via mail from the OPHS Office of Grants Management confirming the receipt of the application submitted using the Grants.gov Web site Portal.

Applicants are encouraged to initiate electronic applications via the Grants.gov Website Portal early in the application development process, and to submit early on the due date or before. This will aid in addressing any problems with submissions prior to the application deadline.

Applicants should contact Grants.gov regarding any questions or concerns regarding the electronic application process conducted through the Grants.gov Website Portal.

Mailed or Hand-Delivered Hard Copy Applications

Applications submitted in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management, on or before 5 p.m. Eastern Time on April 4, 2005. The application deadline date requirement specified in this announcement supersedes the instructions in the OPHS-1. Applications that do not meet the deadline will be returned to the applicant unread.

ADDRESSES: Applications mailed or hand-delivered must be sent to the OPHS Office of Grants Management, 1101 Wootton Parkway, Suite 550, Rockville, Maryland, 20852. For further information contact 301-594-0758.

FOR FURTHER INFORMATION CONTACT: OAPP at 301-594-4004 or oapp@osophs.dhhs.gov.

Dated: March 14, 2005.
Alma L. Golden,
Deputy Assistant Secretary for Population Affairs.

[FR Doc. 05-6272 Filed 3-29-05; 8:45 am]

BILLING CODE 4150-30-P